DEPARTMENT OF COMMERCE

National Oceanic and Atmospheric Administration

Proposed Information Collection; Comment Request; Fishery Products Subject to Trade Restrictions Pursuant to Certification Under the High Seas Driftnet Fishing (HSDF) Moratorium Protection Act

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 24, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Kristin Rusello, Office of International Affairs and Seafood Inspection, F/IS5, 1315 East-West Highway, Silver Spring, MD 20910, (301) 427-8376, or kristin.rusello@noaa.gov.

SUPPLEMENTARY INFORMATION:

I. Abstract

This request is for extension of a revision per RIN 0648-AY15, approved as an emergency request.

Pursuant to the High Seas Driftnet Fishing Moratorium Protection Act (Moratorium Protection Act), if certain fish or fish products of a nation are subject to import prohibitions to facilitate enforcement, the National Marine Fisheries Service (NMFS) requires that other fish or fish products from that nation that are not subject to the import prohibitions must be accompanied by documentation of admissibility. A duly authorized official/agent of the applicant's Government must certify that the fish in the shipments being imported into the United States (U.S.) are of a species that are not subject to an import restriction of the U.S. If a nation is identified under the Moratorium Protection Act and fails to receive a certification decision from the Secretary of Commerce, products from that nation that are not subject to the import prohibitions must be accompanied by the documentation of admissibility.

The approved revision added two new requirements. Under the import certification requirements in the final rule, there was a procedure for making comparability findings for nations that are eligible for exporting fish and fish products to the United States. The nations may receive a comparability finding to export fish and fish products to the United States by providing documentation that a nation's bycatch reduction regulatory program is comparable in effectiveness to that of the United States. A comparability finding is valid for four years. In the interim, nations are required to submit progress reports demonstrating that their regulatory programs are still meeting the conditions for a comparability finding.

This proposed revision makes minor modifications to the “certification of admissibility” established in conjunction with the High Seas Driftnet Fishing Moratorium Protection Act final rule (RIN 0648-BA89). This revision also changes the title of the collection and the Certification of Admissibility Form from “Fishery Products Subject to Trade Restrictions Pursuant to Certification under the High Seas Driftnet Fishing Moratorium Protection Act” to “Fishery Products Subject to Trade Restrictions Pursuant to Certification under the High Seas Driftnet Fishing Moratorium Protection Act and the Marine Mammal Protection Act”.

This information collection is necessary to comply with the Marine Mammal Protection (MMPA) Act 16 U.S.C. 1371 and 1372 and the final rule RIN 0648-AY15 to implement these provisions within the regulations of 50 CFR 216.24. The MMPA contains provisions to address the incidental mortality and serious injury of marine mammals in both domestic and foreign commercial fisheries. With respect to foreign fisheries, section 101(a)(2) of the MMPA (16 U.S.C. 1371(a)(2)) states that “The Secretary of the Treasury shall ban the importation of commercial fish or products from fish which have been caught with commercial fishing technology which results in the incidental kill or incidental serious injury of ocean mammals in excess of United States standards. For purposes of applying the preceding sentence, the Secretary [of Commerce] (A) shall insist on reasonable proof from the government of any nation from which fish or fish products will be exported to the United States of the effects on ocean mammals of the commercial fishing technology in use for such fish or fish products exported from such nation to the United States.”

II. Method of Collection

Submissions will be accepted via email or fax.

III. Data

OMB Control Number: 0648-0651.

Form Number(s): None.

Type of Review: Regular submission (extension of an emergency revision).

Affected Public: Business or other for-profit organizations.

Estimated Number of Respondents: 90.

Estimated Time per Response: 10 minutes.

Estimated Total Annual Burden Hours: 150 hours.

Estimated Total Annual Cost to Public: $10 in reporting/recordkeeping costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 22, 2016.
Sarah Brabson,
NOAA PRA Clearance Officer.

[FR Doc. 2016-20402 Filed 8-24-16; 8:45 am]

BILLING CODE 3510-22-P